DEPARTMENT OF HOUSING AND URBAN DEVELOPMENT

[Docket No. FR-6338-N-02]

Notice of Expansion and Proposed Restructuring of the Digital Opportunity Demonstration Program

AGENCY: Office of Public and Indian Housing, HUD.

ACTION: Notice.

SUMMARY: On October 17, 2023, HUD issued a Notice of Expansion and Proposed Restructuring of the Digital Demonstration Program (ConnectHomeUSA). ConnectHomeUSA is designed to further the collaborative efforts by HUD-assisted housing organizations, government, industry, and nonprofit organizations to accelerate broadband internet adoption and use in HUD-assisted homes. This Notice extends eligible applicants to now include Continuum of Care Program and Housing Opportunities for Persons with AIDS Program grantees. This Notice also extends the application deadline for all applicants.

DATES: Applications are due April 12, 2024.

FOR FURTHER INFORMATION CONTACT: Dina Lehmann-Kim, Program Manager, Public and Indian Housing, Department of Housing and Urban Development, 451 7th Street SW, Room 4130, Washington, DC 20024; telephone number 202-402-2430; email: Dina.Lehmann-Kim@hud.gov. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Notice

This Notice further expands eligibility of CHUSA to Continuum of Care (CoC) and Housing Opportunities for Persons with AIDS (HOPWA) grantees. Under the prior Notice, only Public Housing Authorities, Tribes, and Multifamily owners/operators were eligible to apply (88 FR 55693, October 17, 2023). HUD is committed to advancing digital opportunities in HUD-assisted communities by expanding its ConnectHomeUSA (CHUSA) initiative to between 50 and 100 new communities as Tier 1 CHUSA communities.

HUD's goal is to identify new communities from urban, rural, and Tribal locations with both small and large populations that have the capacity to effectively narrow the digital divide, including expanding programs and capabilities over time. HUD seeks communities where state, local or Tribal leadership has already taken steps to support the goals of CHUSA, as measured by both the community's participation in other complementary Federal initiatives such as the Affordable Connectivity Program ¹ which enhance internet access in communities and/or by local broadband plans and strategies for implementation. HUD seeks to partner with new communities, as well as existing CHUSA communities that wish to continue their work, and provide technical assistance to these communities to identify financial, in-kind and other resources to accomplish the goals of CHUSA. In this vein, HUD encourages applicants to familiarize themselves with other Federal programs that are funding broadband, such as the Broadband Equity, Access and Deployment grant ($42.45 billion) and the Digital Equity Act grant program ($2.75 billion) by going to this comprehensive website: www.internetforall.gov.

¹ The Affordable Connectivity Program provides a monthly subsidy of up to $30 ($75 on qualifying Tribal lands) to cover the cost of internet service for low-income Americans. At the time of the publication of this Notice, the Federal Communications Commission (FCC) ended new enrollments because ACP is expected to run out of funding in April of this year without new Congressional appropriations. A bipartisan proposal, the Affordable Connectivity Program Extension Act, was introduced which would add $7 billion to the program. The Biden Administration has also requested $6 billion for the program. For more information to go: Affordable Connectivity Program | Federal Communications Commission (https://www.fcc.gov/acp).

Through this Notice, HUD is expanding eligible applicants to include CoC and HOPWA grantees. Grantees of these programs, especially those using assistance tied to a particular housing site, such as project-based rental assistance, may benefit from the technical assistance and structure of CHUSA to begin designing digital inclusion programs that will support residents connecting to free or low-cost internet, provide internet accessible devices, provide education to help maintain housing, strengthen health and well-being, and build self-sufficiency.

The number of communities served by CHUSA will depend on the number of communities that commit to narrowing the digital divide and that meet the criteria outlined in the prior Notice (88 FR 71586). Applicants should review Appendix A in the prior Notice which outlines: the Restructuring of CHUSA into a tiered model; the goals of CHUSA; HUD support and recognition of sites' achievements; application requirements; and participation requirements of selected communities. CoC and HOPWA grantees interested in applying to join CHUSA, must submit a Letter of Intent to join as a Tier 1 CHUSA community. To be considered eligible, the Letter of Intent must thoroughly address the Required Levels of Engagement for Tier 1 as outlined in the prior Notice.

There is no Congressional funding for CHUSA; the program implementation is contingent upon HUD resources such as staffing and technical assistance. As this expansion proceeds, HUD will continue to assess community interest and the availability of HUD staffing resources to support participation by additional communities. HUD will also assess the effectiveness of the selection criteria within the three tiers on an ongoing basis. Such assessment may expand the number of participating communities, revise the selection criteria, or both to reflect HUD's experience in implementing CHUSA.

II. Support for Applicants

A webinar explaining the application process can be viewed at https://www.hudexchange.info/trainings/courses/steps-for-applying-to-join-the-connecthomeusa-expansion/. A Frequently Asked Questions document and other guidance is also available on HUD's ConnectHomeUSA at https://hud.gov/connecthomeusa. If applicants have additional questions, the HUD CHUSA team is available to assist. Questions can be addressed to: ConnectHome@hud.gov.

Dominique Blom,
General Deputy Assistant Secretary—Public and Indian Housing.

[FR Doc. 2024-03881 Filed 2-26-24; 8:45 am]

BILLING CODE 4210-67-P